DEPARTMENT OF HOMELAND SECURITY

Coast Guard

33 CFR Part 165

[Docket No. USCG-2016-0412]

Security Zone; Protection of Military Cargo, Captain of the Port Zone Puget Sound

AGENCY: Coast Guard, DHS.

ACTION: Notice of enforcement of regulation.

SUMMARY: The Coast Guard will enforce security zone regulations for the Sitcum Waterway Security Zone in Commencement Bay, Tacoma, Washington from 6 a.m. on May 17, 2016, through 11:59 p.m. on May 22, 2016, unless cancelled sooner by the Captain of the Port. This action is necessary to help provide for the security of Department of Defense assets and military cargo located in those waters during that time period. Entry into the Sitcum Waterway security zone is prohibited unless authorized by the Captain of the Port Puget Sound or a Designated Representative.

DATES: The regulations in 33 CFR 165.1321 will be enforced for the Sitcum Waterway Security Zone from 6 a.m. on May 17, 2016 through 11:59 p.m. on May 22, 2016, unless cancelled sooner by the Captain of the Port.

FOR FURTHER INFORMATION CONTACT: If you have questions about this notice of enforcement, call or email CWO Jeffrey Zappen, Sector Puget Sound Waterways Management Division, U.S. Coast Guard; telephone 206-217-6076, email SectorPugetSoundWWM@uscg.mil.

SUPPLEMENTARY INFORMATION: The Coast Guard will enforce 33 CFR 165.1321 security regulations for the Sitcum Waterway Security Zone described in paragraph (c)(2) of that section from May 17, 2016, at 6 a.m. through 11:59 p.m. on May 22, 2016, unless cancelled sooner by the Captain of the Port. The security zone is necessary to help provide for the security of Department of Defense assets and military cargo located in those waters during the enforcement period. Entry into the security zone is prohibited unless authorized under § 165.1321. Vessels wishing to enter the security zone may request permission from the Captain of the Port Puget Sound or a Designated Representative as outlined in § 165.1321.

This notice of enforcement is issued under authority of 33 CFR 165.1321 and 5 U.S.C. 552(a). In addition to this document in the Federal Register, the Coast Guard will provide the maritime community with notification of this enforcement period via marine information broadcasts and on-scene assets, if any.

If the COTP determines that the Sitcum Waterway Security Zone need not be enforced for the full duration stated in this notice, a Broadcast Notice to Mariners will be used to grant general permission to enter the regulated area.

Dated: May 16, 2016.
M.W. Raymond,
Captain, U.S. Coast Guard, Captain of the Port, Puget Sound.

[FR Doc. 2016-11870 Filed 5-19-16; 8:45 am]

BILLING CODE 9110-04-P